DEPARTMENT OF TRANSPORTATION

Federal Railroad Administration

Notice of Petition for Approval; Railroad Safety Program Plan

Although not required, the Federal Railroad Administration (FRA) is providing notice that it has received a petition for approval of a Railroad Safety Program Plan (RSPP) submitted pursuant to Title 49 Code of Federal Regulations CFR 236.905, of subpart H. The petition is described below, including the party seeking approval and the requisite docket number where the petition and any related information may be found. This document is available for public inspection, however, FRA is not accepting public comment on the document as this notice is provided for information only.

Marquette Rail, LLC (Docket Number FRA-2009-0017)

Marquette Rail, LLC submitted a petition for approval of an RSPP. The petition, the RSPP, and any related documents have been placed in the requisite docket and are available for public inspection.

All documents in the public docket are available for inspection and copying on the Internet at the docket facility's Web site at http://www.regulations.gov.

You may review DOT's complete Privacy Act Statement in the Federal Register published on April 11, 2000 (Volume 65, Number 70; Pages 19477-78).

Issued in Washington, DC, on March 12, 2009.
Grady C. Cothen, Jr.
Deputy Associate Administrator for Safety Standards and Program Development.

[FR Doc. E9-5840 Filed 3-17-09; 8:45 am]

BILLING CODE 4910-06-P